DEPARTMENT OF STATE

[Public Notice 10401]

Advisory Committee on International Economic Policy; Notice of Open Meeting

The Advisory Committee on International Economic Policy (ACIEP) will meet from 1:30 until 4:00 p.m., on Wednesday, May 16 in Washington DC at the State Department, 320 21st St. NW. The meeting will be hosted by the Assistant Secretary of State for Economic and Business Affairs, Manisha Singh, and Committee Chair Paul R. Charron. The ACIEP serves the U.S. government in a solely advisory capacity, and provides advice concerning topics in international economic policy. It is expected that during this meeting the Sanctions Subcommittee will provide an update on its recent work. Other subcommittees, such as the Stakeholder Advisory Board, might also present updates.

This meeting is open to the public, though seating is limited. Entry to the building is controlled. To obtain pre-clearance for entry, members of the public planning to attend must, no later than Friday, May 4, provide their full name and professional affiliation (if any) to Alan Krill by email: KrillA@state.gov. Requests for reasonable accommodation should also be made to Alan Krill before Friday, May 14. Requests made after that date will be considered, but might not be possible to fulfill.

This information is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (STATE-33) and Security Records (State-36). Provision of this information is voluntary, but failure to provide accurate information may impede your ability to register for the event.

For additional information, contact Alan Krill, Bureau of Economic and Business Affairs, at (202) 647-2231, or KrillA@state.gov.

Alan B. Krill,
Designated Federal Officer, Department of State.

[FR Doc. 2018-08918 Filed 4-26-18; 8:45 am]

BILLING CODE 4710-07-P